DEPARTMENT OF AGRICULTURE

Rural Housing Service

Funds Availability for Section 514 Farm Labor Housing Loans and Section 516 Farm Labor Housing Grants for Off-Farm Housing for Fiscal Year 2011

AGENCY: Rural Housing Service, USDA.

ACTION: Notice; correction.

SUMMARY: This notice corrects the scoring points to a Notice published in the Federal Register on July 7, 2011, regarding Funds Availability for Section 514 Farm Labor Housing Loans and Section 516 Farm Labor Housing Grants for Off-Farm Housing for Fiscal Year (FY) 2011. The correction changes the points assigned under section VI. Pre-application Review Information, (A)(1)(v)(a) entitled New Construction Energy Conservation. This notice also extends the pre-application closing deadline to 5 p.m., local time to September 6, 2011.

FOR FURTHER INFORMATION CONTACT: Mirna Reyes-Bible, Finance and Loan Analyst, Multi-Family Housing Preservation and Direct Loan Division, STOP 0781 (Room 1263-S), USDA Rural Development, 1400 Independence Avenue, SW., Washington, DC. 20250-0781, telephone: (202) 720-1753 (this is not a toll free number.), or via e-mail: Mirna.ReyesBible@wdc.usda.gov. If you have questions regarding Net Zero Energy Consumption and Energy Generation please contact Carlton Jarratt, Finance and Loan Analyst, Multi-Family Housing Preservation and Direct Loan Division at (804) 287-1524 or via e-mail: carlton.jarrat@wdc.usda.gov.

Correction

In the notice, beginning on page 39813 in the issue of July 7, 2011, make the following corrections:

In the third column for page 39813, correct the DATES section to read:

DATES: The deadline for receipt of all pre-applications in response to this is 5:00 p.m., local time to the appropriate Rural Development State Office on September 6, 2011. * * *

In the third column for page 39817, paragraph (a) entitled New Construction Energy Conservation; replace the entire paragraph (a) with the following:

(a) Energy Conservation for New Construction (maximum 32 points). New construction projects may be eligible for up to 32 points when the pre-application includes a written certification by the applicant to participate in the following energy efficiency programs. The points will be allocated as follows:

(1) Participation in the Department of Energy's Energy Star for Homes program (10 points). http://www.energystar.gov/index.cfm?c=bldrs_lenders_raters.nh_multifamily_units.

(2) Participation in the Green Communities program by the Enterprise Community Partners. (10 points) http://www.enterprisecommunity.org.

(3) Participation in one of the following two programs will be awarded points for certification.

Note: Each program has four levels of certification. State the level of certification that the applicant plans will achieve in their certification:

• LEED for Homes program by the United States Green Building Council (USGBC): http://www.usgbc.org/homes.

○ Certified Level (4 points), OR

○ Silver Level (6 points), OR

○ Gold Level (8 points), OR

○ Platinum Level (10 points), OR

• The National Association of Home Builders (NAHB) ICC 700-2008 National Green Building Standard TM: http://www.nahb.org.

○ Bronze Level (4 points), OR

○ Silver Level (6 points), OR

○ Gold Level (8 points), OR

○ Emerald Level (10 points).

(4) Participation in local green/energy efficient building standards; Applicants, who participate in a city, county or municipality program, will receive an additional 2 points. The applicant should be aware of and look for additional requirements that are sometimes embedded in the third-party program's rating and verification systems. (2 points)

Dated: August 23, 2011.
Robert Lewis,
Acting Administrator, Housing and Community Facilities Programs.

[FR Doc. 2011-22133 Filed 8-29-11; 8:45 am]

BILLING CODE 3410-XV-P